DEPARTMENT OF ENERGY

Federal Energy Regulatory Commission

[Project No. 14322-000]

Corbett Water District; Notice of Intent To File License Application, Filing of Pre-Application Document, and Approving Use of the Traditional Licensing Process

a. Type of Filing: Notice of Intent to File License Application and Request to Use the Traditional Licensing Process.

b. Project No.: 14322-000.

c. Dated Filed: November 14, 2011.

d. Submitted By: Corbett Water District.

e. Name of Project: Corbett Hydroelectric Project.

f. Location: On the North and South Forks of Gordon Creek, in Multnomah County, Oregon. The project occupies less than one acre of United States lands administered by the U.S. Bureau of Land Management.

g. Filed Pursuant to: 18 CFR 5.3 of the Commission's regulations.

h. Potential Applicant Contact: James Jans, Corbett Water District, 36120 E. Historic Columbia River Hwy., Corbett, OR 97019; (503) 695-2284; email—jim.corbettwater@reconnects.com.

i. FERC Contact: Ken Wilcox at (202) 502-6835; or email at ken.wilcox@ferc.gov.

j. Corbett Water District filed its request to use the Traditional Licensing Process on November 14, 2011. Corbett Water District provided public notice of its request on November 19, 2011. In a letter dated December 22, 2011, the Director of the Division of Hydropower Licensing approved Corbett Water District's request to use the Traditional Licensing Process.

k. With this notice, we are initiating informal consultation with: (a) The U.S. Fish and Wildlife Service and NOAA Fisheries under section 7 of the Endangered Species Act and the joint agency regulations thereunder at 50 CFR part 402; (b) NOAA Fisheries under section 305(b) of the Magnuson-Stevens Fishery Conservation and Management Act and implementing regulations at 50 CFR 600.920; and (c) the Oregon State Historic Preservation Officer, as required by section 106, National Historical Preservation Act, and the implementing regulations of the Advisory Council on Historic Preservation at 36 CFR 800.2.

l. Corbett Water District filed a Pre-Application Document (PAD; including a proposed process plan and schedule with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-(866) 208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: December 22, 2011.
Kimberly D. Bose,
Secretary.

[FR Doc. 2011-33646 Filed 12-30-11; 8:45 am]

BILLING CODE 6717-01-P